DEPARTMENT OF HEALTH AND HUMAN SERVICES

National Institutes of Health

Center For Scientific Review; Amended Notice of Meeting

Notice is hereby given of a change in the meeting of the Enabling Bioanalytical and Biophysical Technologies Study Section, January 31, 2008, 8:30 a.m. to February 1, 2008, 6 p.m., Hotel Rouge, 1315 16th Street, NW., Washington, DC 20036 which was published in the Federal Register on December 13, 2007, 72 FR 70875-70877.

The meeting will be held one day only: January 31, 2008, from 8:30 a.m. to 6:30 p.m. The meeting location remains the same. The meeting is closed to the public.

Dated: December 18, 2007.
Jennifer Spaeth,
Director, Office of Federal Advisory Committee Policy.

[FR Doc. 07-6205 Filed 12-27-07; 8:45 am]

BILLING CODE 4140-01-M